DEPARTMENT OF TRANSPORTATION

Federal Highway Administration

Notice of Funding Availability Application Procedure and Deadlines for the Truck Parking Facilities Program

AGENCY: Federal Highway Administration (FHWA), DOT.

ACTION: Notice; solicitation of applications.

SUMMARY: This notice solicits applications for the truck parking facilities initiative for which funding is available under section 1305 of Public Law 109-59, 119 Stat. 1214-15, the Safe, Accountable, Flexible, Efficient Transportation Equity Act: A Legacy for Users (SAFETEA-LU). The SAFETEA-LU directed the Secretary to establish a pilot program to address the shortage of long-term parking for commercial motor vehicles (CMV) on the National Highway System. States, metropolitan planning organizations (MPOs) and local governments are eligible for the funding available for fiscal years (FY) 2006-2009. Section 411 of Title IV of Public Law 111-147, the Surface Transportation Extension Act of 2010, 124 Stat. 78, extended funding for the Truck Parking Facilities program for FY 2010 and the first quarter of FY 2011 (through December 31, 2010). The SAFETEA-LU section 1305 authorizes a wide range of eligible projects and activities, ranging from construction of commercial motor vehicle spaces and other capital improvements that facilitate CMV parking including the use of intelligent transportation systems (ITS) technology to increase information on the availability of both public and private CMV parking spaces. For purposes of this program, long-term parking is defined as parking available for 10 or more consecutive hours.

DATES: Applications must be received by the FHWA no later than October 26, 2010.

ADDRESSES: The FHWA Office of Freight Management and Operations mailing address is FHWA-HOFM, 1200 New Jersey Avenue, SE.; MS E84-402, Washington, DC 20590.

FOR FURTHER INFORMATION CONTACT: Mr. Tom Kearney, Office of Freight Management and Operations, (518) 431-4125 ext. 218, tom.kearney@dot.gov; for legal questions, Mr. Robert Black, Office of the Chief Counsel, (202) 366-1359, robert.black@dot.gov; Federal Highway Administration, Department of Transportation, 1200 New Jersey Avenue, SE., Washington, DC 20590. Office hours are from 7:45 a.m. to 4:15 p.m., Monday through Friday, except Federal holidays.

SUPPLEMENTARY INFORMATION:

Electronic Access

An electronic copy of this notice may be downloaded from the Office of the Federal Register's home page at http://www.archives.gov and the Government Printing Office's Web site at http://www.access.gpo.gov.

I. Background

The Truck Parking Facilities Program furthers the goals of the DOT in addressing congestion and safety concerns on the Nation's highways. By creating a program that provides funds to address long-term truck parking on the National Highway System (NHS), the DOT anticipates that commercial motor vehicles will be better able to plan rest stops and better time their transit or loading/unloading within urban areas, thereby reducing the urban area's congestion and supporting safe highway operations.

The shortage of long-term truck parking on the NHS is a problem that needs to be addressed. Several States have completed truck parking needs analyses recently and have found that severe and pervasive shortages exist. Their recommendations include expansion or improvement of public rest areas; expansion or improvement of commercial truck stops and travel plazas; use of public-private partnerships; and educating or informing drivers about available spaces. This lack of available parking not only adds to congestion in urban areas, but also may affect safety by reducing the opportunities for drivers to obtain rest needed to comply with the Federal Motor Carrier Safety Regulations, Hours of Service of Drivers (49 CFR 395.3(a)(1)). Further, parking areas are often designed or maintained for short-term parking only. Section 1305 of SAFETEA-LU directed the Secretary of Transportation to establish a pilot program to address the long-term parking shortages along the NHS. Eligible projects under section 1305 include projects that:

1. Promote the real-time dissemination of publicly or privately provided commercial motor vehicle parking availability on the NHS using ITS and other technology based solutions;

2. Open non-traditional facilities to commercial motor vehicle parking, including inspection and weigh stations, and park and ride facilities;

3. Make capital improvements to public commercial motor vehicle parking facilities currently closed on a seasonal basis to allow the facilities to remain open year round;

4. Construct turnouts or connectors along the NHS (which must comply with appropriate design standards) to facilitate commercial motor vehicle access to parking facilities, and/or improve the geometric design of interchanges to improve access to commercial motor vehicle parking facilities. This should include improvements to the local street network or access to the proposed parking site. Applicable references, including standards, recommended industry practices, and references that provide technical guidance to assist State and local agencies in addressing truck parking issues, are listed below:

AASHTO (http://www.transportation.org)

A Policy on Geometric Design of Highways and Streets, 2004 (Green Book)

A Policy on Design Standards Interstate System, January 2005

Guide to Park and Ride Facilities, 2004

Guide for Development of Rest Areas on Major Arterials and Freeways, Third Edition

Transportation Research Board (http://trb.org)

Access Management Manual

Institute of Transportation Engineers (http://www.ite.org)

Transportation Impact Analysis for Site Development: An ITE Proposed Recommended Practice, 2006

5. Construct commercial motor vehicle parking facilities adjacent to commercial truck stops and travel plazas; and

6. Construct safety rest areas that include parking for commercial motor vehicles.

In FY 2008, FHWA awarded funding to two projects designed to disseminate information on the availability and/or location of public or private long-term parking spaces to provide the greatest opportunity to maximize the effectiveness of this pilot program. These projects, being developed on the I-95 Corridor in the Northeast and the I-5 Corridor in California, employ a program based on improving the truck operator's awareness of truck parking opportunities. In June 2010, five additional awards were made by the DOT to projects in Utah, Mississippi, Oregon, Tennessee, and Pennsylvania. Work to be completed by these projects include expanding current truck parking facilities, converting a weigh station to a truck parking facility, and disseminating truck parking opportunities to drivers by using ITS and 511 traveler information systems.

The Secretary is authorized to provide Federal grant assistance for the Truck Parking Facilities pilot program on a discretionary basis. The FHWA will make recommendations to the Secretary toward projects that should be considered for funding. Accordingly, FHWA will give priority consideration to applications for Truck Parking projects from those States, MPO's, and local governments that have measurable safety, congestion reduction and air quality benefits. The FHWA seeks solutions at a corridor level and encourages multi-State cooperation in proposals for this program.

The candidate projects must meet the eligibility criteria for the Truck Parking Facilities Program and will be evaluated on the selection criteria established for the program along with the safety and congestion criteria described below. Although funding for the Truck Parking Facilities Program is limited, large-scale corridor focused projects are encouraged to apply for Truck Parking Facilities Program funding.

Highway safety continues to remain a focus and priority for FHWA. Targeting discretionary funding, in a results-oriented comprehensive approach to safety, is a means of directing limited discretionary funding to those projects that will yield tangible transportation and safety benefits. With respect to safety, applicants should describe the safety benefits associated with the project or activity for which funding is sought, including whether the project, activity, or improvement:

• Will result in a measurable reduction in the loss of property, injury, or life;

• Incorporates innovative safety design techniques that support safe highway operations and advance the “state-of-the practice” in delivering highway safety projects focusing on commercial vehicle operations or other operational techniques;

• Incorporates innovative construction work zone strategies to improve safety;

• Is located on a rural road that is in need of priority attention based on analysis of safety experience; and/or

• Is located in an urban area of high injury or fatality, and is an initiative to improve the design, operation or other aspect of the existing facility that will result in a measurable safety improvement.

Increasing national mobility and productivity while reducing congestion is also a priority for FHWA. In support of a high-velocity, global supply chain that supports competitiveness in the global economy, safe and efficient commercial vehicle operations are essential. Reliability of travel times and the sustainability of benefits generated through investments in the U.S. highway system are key objectives that FHWA is striving to achieve to support national economic competitiveness. The application of discretionary funding to improve mobility and reduce congestion will yield tangible transportation and economic benefits that should far exceed the limited amount of discretionary funding provided to the project. In furtherance of measuring the congestion reduction and mobility benefits associated with a project that qualifies for funding under the Truck Parking Facilities Program, within the application, the applicant should describe how the project, activity or improvement:

• Relieves congestion in an urban area or along a major transportation corridor;

• Employs operational and technological improvements that promote safety and congestion relief, and/or addresses major freight bottlenecks.

Appropriate quantitative data should be provided to support the safety and congestion relief discussion.

II. Funding Information

The FHWA expects that approximately $7.3 million will be available to award under this solicitation for projects. Projects funded under this section shall be treated as projects on a Federal-aid System under Chapter 1 of Title 23, United States Code (U.S.C.).

Grants may be funded at an 80 to 100 percent funding level based on the criteria specified in sections 120(b) and 120(c) of Title 23, U.S.C.

III. Application Submission

This notice will also be posted on the FHWA Office of Freight Management and Operations Web site, http://www.ops.fhwa.dot.gov/freight. Electronic versions of project applications in .pdf file format should be attached to an e-mail and submitted to truckparking10@dot.gov. Alternatively, hard copies of project applications may be submitted; in that case, an original and 10 copies of each application can be submitted. Please note electronic submissions in .pdf file format are encouraged in place of hard copy submissions. Awarded projects will be administered by the applicable State Department of Transportation as a Federal-aid grant.

In accordance with the Paperwork Reduction Act, we have received clearance from the Office of Management and Budget (OMB) for this action (OMB Control number 2125-0610, April 30, 2013).

IV. Proposal Content

All proposals should include the following:

1. A detailed project description, which would include a description of the severity and extent of the long-term truck parking shortage in the corridor to be addressed, along with contact information for the project's primary point of contact, and whether funds are being requested under 23 U.S.C. 120(b) or 120(c). Data helping to define the shortage may include truck volume (Average Daily Truck Traffic—ADTT) in the corridor to be addressed, current number of long-term commercial motor vehicle parking spaces, use of current long-term parking spaces, driver surveys, observational field studies, proximity to freight loading/unloading facilities, and proximity to the NHS.

2. The rationale for the project should include an analysis and demonstration of how the proposed project will positively affect truck parking, safety, economic competitiveness and sustainability, traffic congestion, or air quality in the identified corridor.

3. The scope of work should include a complete listing of activities to be funded by the request, including technology development, information processing, information integration activities, developmental phase activities (planning, feasibility analysis, environmental review, engineering or design work, and other activities), construction, reconstruction, acquisition of real property (including land related to the project and improvements to land), environmental mitigation, construction contingencies, acquisition of equipment, and operational improvements.

4. Stakeholder identification should include evidence of prior consultation and/or partnership with affected MPOs, local governments, community groups, private providers of commercial motor vehicle parking, and motorist and trucking organizations. Also include a listing of all public and private partners, and the role each will play in the execution of the project. Commitment/consultation examples may include: Memorandums of Agreement, Memorandums of Understanding, contracts, meeting minutes, letters of support/commitment, and documentation in a metropolitan transportation improvement program (TIP) or statewide transportation improvement program (STIP).

5. A detailed quantification of eligible project costs by activity, an identification of all funding sources that will supplement the grant and be necessary to fully fund the project, and the anticipated dates on which the additional funds are to be made available. Public and private sources of funds (non-Federal commitment) will be considered by the FHWA as an in-kind match contributing to the project. Matching funds will be required for projects eligible under 23 U.S.C. 120(b).

6. Applicants should provide a timeline that includes work to be completed and anticipated funding cycles. Gantt charts are preferred.

7. Include a timeline for complying with National Environmental Policy Act requirements and the type of clearance received or anticipated.

8. Include a project map that consists of a schematic illustration depicting the project and connecting transportation infrastructure. Digital maps should accompany all submissions, either hard copy or electronic submissions made in .pdf file format. Please reference in the proposal if the maps are available.

9. Describe a measurement plan to determine whether or not the project achieved its intended results. The measurement plan should continue for 3 years beyond the completion date of the project. After the 3-year period, a final report quantifying the results of the project should be submitted to the FHWA.

10. Proposals should not exceed 20 pages in length.

Special Note: A description of the project management approach that will guide advancement of the project must be included for project applications proposing ITS or other technology based truck parking solutions. The FHWA encourages in the project management approach a minimum of a communications plan, a risk management plan and a work breakdown structure.

V. Application Review Information

Grant applications that contain the elements detailed in this notice will be scored competitively according to the soundness of their methodology and subject to the criteria listed below. Sub-factors listed under each factor are of equal importance unless otherwise noted.

A. Scoring Criteria

1. Demonstration of severe shortage (number of spaces, access to existing spaces or information/knowledge of space availability) of commercial motor vehicle parking capacity/utilization in the corridor. (Multi-State highway corridors are the focus of these projects. Consider the business requirements of getting the goods to market, while also considering the government regulations associated with hours of service.) (20 percent)

Examples used to demonstrate severe shortage may include:

○ ADTT in proposal area.

○ Average daily shortfall of truck parking in proposal area.

○ Ratio of ADTT to average daily shortfall of truck parking in proposal area.

○ Proximity to NHS.

2. The extent to which the proposed solution resolves the described shortage. (35 percent)

Examples should include:

○ Number of truck parking spaces per day that will be used as a result of the proposed solution.

○ The effect on highway safety, economic competitiveness and sustainability, traffic congestion, and/or air quality.

3. Cost effectiveness of proposal. (25 percent)

Examples should include:

○ How many truck parking spaces will be used per day per dollar expended.

○ Total cost of project, including all non-Federal funds that will be contributed to the project.

4. Scope of proposal. (20 percent)

Examples should include:

○ Evidence of a wide range of input from affected parties, including State and local governments, community groups, private providers of commercial motor vehicle parking, and motorist and trucking organizations.

○ For projects that are ITS-based, the project management plan presented in the application should demonstrate the project will successfully be delivered.

○ Whether the principles outlined in the proposal can be applied to other locations/projects and possibly serve as a model for other locations.

B. Review Standards

1. All applications for grants should be submitted to the e-mail address or mailing address provided in this Notice by the date specified in this notice.

2. Applicants should ensure that the project proposal is compatible with or documented on their planning documents (TIP and STIP). They should also validate, to the extent they can, any analytic data.

3. Each application will be reviewed for conformance with the provisions in this notice.

4. Applications lacking any of the mandatory elements or arriving after the deadline for submission will not be considered. To assure full consideration, proposals should not exceed 20 pages in length.

5. Applicants may be contacted for additional information or clarification.

6. Applications complying with the requirements outlined in this notice will be evaluated competitively by a review panel, and will be scored as described in the scoring criteria.

7. If the FHWA determines that the project is technically or financially unfeasible, FHWA will notify the applicant, in writing.

8. The FHWA reserves the right to partially fund or request modification of projects.

9. All information described in the submitter's proposal elements should be quantifiable and sourced.

VI. Award Administration Information

The Secretary recognizes that each funded project is unique, and therefore may attach conditions to project award documents. The FHWA will send an award letter with a grant agreement that contains all the terms and conditions for the grant. These successful applicants must execute and return the grant agreement, accompanied by any additional items required by the grant agreement.

Authority: Section 1305, Pub. L. 109-59, 119 Stat. 1214, Aug. 10, 2005; Section 411, Pub. L. 111-147, 124 Stat. 78.

Issued on: August 17, 2010.
Victor M. Mendez,
Administrator.

[FR Doc. 2010-21323 Filed 8-26-10; 8:45 am]

BILLING CODE 4910-22-P